DEPARTMENT OF DEFENSE

Department of the Army

Performance Review Board Membership

AGENCY: Department of the Army, DoD.

ACTION: Notice.

SUMMARY: Notice is given of the names of members of a Performance Review Board for the Department of the Army.

DATES: Effective Date: November 01, 2016.

FOR FURTHER INFORMATION CONTACT: Barbara Smith, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Lisha Adams, Executive Deputy to the Commanding General, U.S. Army Materiel Command.

2. LTG Joseph Anderson, Deputy Chief of Staff, G-3/5/7, Department of the Army.

3. LTG Robert P. Ashley Jr., Deputy Chief of Staff, G-2, Department of the Army.

4. Mr. Stephen D. Austin, Assistant Chief of the Army Reserve, Office of the Chief Army Reserve.

5. LTG Gwendolyn Bingham, Assistant Chief of Staff for Installation Management, Department of the Army.

6. Dr. Joseph L. Corriveau, Director, Edgewood Chemical Biological Center, U.S. Army Edgewood Chemical Biological Center, U.S. Army Research, Development and Engineering Command.

7. Mr. James C. Dalton, Director of Civil Works, U.S. Army Corps of Engineers.

8. Ms. Gwendolyn R. DeFilippi, Director, Civilian Senior Leader Management Office, Office of the Assistant Secretary of the Army (Manpower and Reserve Affairs).

9. Ms. Steffanie B. Easter, Principal Deputy Assistant Secretary of the Army for Acquisition, Policy and Logistics, Office of the Assistant Secretary of the Army (Acquisition, Logistics, and Technology).

10. Ms. Sue A. Engelhardt, Director of Human Resources, U.S. Army Corps of Engineers.

11. Mr. Randall L. Exley, The Auditor General, U.S. Army, Office of the Auditor General.

12. Mr. Richard Fong, Senior Research Scientist (Warheads Technology), U.S. Army Armament Research, Development, and Engineering Center (ARDEC), U.S. Army Research, Development and Engineering Command.

13. Ms. Susan J. Goodyear, Deputy Chief of Staff for Resource Management, U.S. Army Materiel Command.

14. Mr. Patrick K. Hallinan, Executive Director of the Army National Cemeteries Program, Department of the Army.

15. Mr. Stuart A. Hazlett, Director of Contracting, U.S. Army Corps of Engineers.

16. Ms. Ellen M. Helmerson, Deputy Chief of Staff, G-8, U.S. Army Training and Doctrine Command.

17. Mr. David Jimenez, Assistant to the Deputy Under Secretary of the Army/Director of Test and Evaluation.

18. MG Donald E. Jackson, Jr., Deputy Commanding General for Civil and Emergncy Operations, U.S. Army Corps of Engineers.

19. MG Daniel I. Karbler, Commanding General, U.S. Army Test and Evaluation Command.

20. Ms. Krystyna M. A. Kolesar, Deputy Director, Program Analysis & Evaluation Directorate, Office of the Deputy Chief of Staff, G-8.

21. Mr. Mark R. Lewis, Executive Advisor to the Adminstrative Assistant to the Secretary of the Army, Office of the Administrative Assistant.

22. LTG Kevin W. Mangum, Deputy Commanding General/Chief of Staff, U.S. Army Training and Doctrine Command.

23. Mr. David Markowitz, Assistant Deputy Chief of Staff, G-8, Deputy Chief of Staff, G-8.

24. Mr. Joseph M. McDade, Principal Deputy General Counsel of the Air Force.

25. Ms. Kathleen S. Miller, Assistant Deputy Chief of Staff for Operations (G-3/5/7), Office of the Deputy Chief of Staff, G-3/5/7.

26. Mr. William F. Moore, Assistant Deputy Chief of Staff, G-4, Office of the Deputy Chief of Staff, G-4.

27. Mr. Levator Norsworthy Jr., Deputy General Counsel(Acquisition)/Senior Deputy General Counsel, Office of the General Counsel.

28. Mr. Gerald B. O'Keefe, Administrative Assistant to the Secretary of the Army, Office of the Administrative Assistant to the Secretary of the Army.

29. Mr. Philip R. Park, Principal Deputy General Counsel, Office of the General Counsel.

30. LTG Gustave F. Perna, Commanding General, U.S. Army Materiel Command.

31. Mr. Dean E. Pfoltzer, Principal Director, Policy and Resources/Chief Financial Officer, Office of the Chief Information Officer/G-6.

32. Mr. David W. Pittman, Deputy Director, Engineer Research and Development Center, U.S. Army Corps of Engineers.

33. Mr. Vic S. Ramdass, Director for Partnering USSOUTHCOM, U.S. Southern Command.

34. Ms. Diane M. Randon, Deputy Assistant Chief of Staff for Installation Management, Office of the Assistant Chief of Staff for Installation Management.

35. Mr. Jeffrey N. Rapp, Assistant Deputy Chief of Staff, G-2 Office of the Deputy Chief of Staff, G-2.

36. Dr. Jaques Reifman, Senior Research Scientist (Advanced Medical Technology), U.S. Army Medical Research Materiel Command.

37. Mr. J. Randall Robinson, Principal Deputy to the Assistant Secretary of the Army (Installations, Energy and Environment), Office of the Assistant Secretary of the Army (Installations and Environment).

38. Mr. Craig R. Schmauder, Deputy General Counsel (Installation, Environment and Civil Works), Office of the General Counsel.

39. Mr. Karl F. Schneider, Deputy Chief Management Officer, Office of the Under Secretary of the Army.

40. LTG Todd T. Semonite, Commanding General, U.S. Army Corps of Engineers.

41. Ms. Monica Shephard, Vice Director for Joint Force Development, J7.

42. MG James E. Simpson, Commanding General, U.S. Army Contracting Command.

43. Ms. Caral E. Spangler, Principal Deputy Assistant Secretary of the Army (Financial Management and Comptroller). Office of the Assistant Secretary of the Army (Financial Management & Comptroller).

44. Honorable Robert M. Speer, Assistant Secretary of the Army (Financial Management & Comptroller), Office of the Assistant Secretary of the Army (Financial Management & Comptroller).

45. Ms. Patricia P. Stokes, Senior Security Advisor, U.S. Department of the Army, Office of the Deputy Chief of Staff, G-2.

46. Honorable Debra S. Wada, Assistant Secretary of the Army (Manpower and Reserve Affairs), Office of the Assistant Secretary of the Army (Manpower and Reserve Affairs).

47. Mr. Davis S. Welch, Deputy Director and Senior Advisor for Army Budget, Office of the Assistant Secretary of the Army (Financial Management & Comptroller).

48. MG Darell K. Williams, Commanding General, U.S. Army Combined Arms Support Command, U.S. Army Training and Doctrine Command.

49. LTG Michael E. Williamson, Deputy Assistant Secretary of the Army (Acquisition, Logistics and Technology), Office of the Assistant Secretary of the Army (Acquisition, Logistics and Technology).

50. LTG Larry D. Wyche, Deputy Commanding General, U.S. Army Material Command.

Brenda S. Bowen,
Army Federal Register Liaison Officer.

[FR Doc. 2016-26929 Filed 11-7-16; 8:45 am]

BILLING CODE 5001-03-P